ENVIRONMENTAL PROTECTION AGENCY

[FRC-8337-6]

Good Neighbor Environmental Board

AGENCY: Environmental Protection Agency (EPA).

ACTION: Notice of meeting.

SUMMARY: Under the Federal Advisory Committee Act, Public Law 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico. The statute calls for the Board to have representatives from U.S. Government agencies; the States of Arizona, California, New Mexico and Texas; tribal representation; and a variety of non-governmental officials. One purpose of this meeting is to hear presentations on the theme selected for the Board's Eleventh Report, natural disasters and the environment. The meeting also will include a public comment session and a business meeting on the second day. A copy of the meeting agenda will be posted at http://www.epa.gov/ocem/gneb.

DATES: The Good Neighbor Environmental Board will hold an open meeting on Tuesday, July 24, from 9 a.m. (registration at 8:30 a.m.) to 5:30 p.m. and Wednesday, July 25, from 8 a.m. (registration 7:30 a.m.) to 12 noon. It will be preceded by a Board field trip to learn about local environment infrastructure on the afternoon of July 23rd.

ADDRESS: The meeting will be held at the Holiday Inn, 3777 North Expressway, Brownsville, Texas 78520. Telephone: 1-800-325-7385.

The meeting is open to the public, with limited seating on a first-come, first-served basis.

FOR FURTHER INFORMATION CONTACT: Elaine Koerner, Designated Federal Officer, koerner.elaine@epa.gov, 202-233-0069, U.S. EPA, Office of Cooperative Environmental Management (1601M), 1200 Pennsylvania Avenue, NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at the contact information above. To request accommodation of a disability, please contact Elaine Koerner, preferably at least 10 days prior to the meeting, to give EPA as much time as possible to process your request.

Dated: June 19, 2007.
Elaine Koerner,
Designated Federal Officer.

[FR Doc. 07-3311 Filed 7-6-07; 8:45 am]

BILLING CODE 6560-50-M